DEPARTMENT OF THE INTERIOR

Performance Review Board Appointments

AGENCY: Department of the Interior.

ACTION: Notice of Performance Review Board Appointments.

SUMMARY: This notice provides the names of individuals who have been appointed to serve as members of the Department of the Interior Performance Review Board.

DATES: These appointments are effective upon publication in the Federal Register.

FOR FURTHER INFORMATION CONTACT: Rosemary Downing, Acting Director, Office of Human Resources, Office of the Secretary, Department of the Interior, 1849 C Street, NW., Washington, DC 20240, Telephone Number: (202) 208-4321.

The members of the Department of the Interior Performance Review Board are as follows:

Amos, Adell L.

Archuleta, Deanna A.

Arroyo, Bryan

Ashe, Daniel M.

Baker, Karen D.

Bean, Michael J.

Beck, Richard T.

Birdwell, Stephanie E.

Black, Steven W.

Blanchard, Mary Josie

Broun, Laurence I.

Brown, Laura B.

Brown, Robert E.

Burckman, James N.

Burke, Marcilynn A.

Burzyk, Carla M.

Carter-Pfisterer, Carole

Cruickshank, Walter D.

Davis, Mark H.

Douglas, James C.

Eller, Sharon D.

Faeth, Lorraine V.

Farquhar, Edward P.

Fearn, Milton L.

Ferriter, Olivia B.

Finkler, Kira L.

Forrest, Vicki L.

Frazer, Gary D.

Frost, Herbert C.

Gary, Arthur E.

Gould, Gregory J.

Gould, Rowan W.

Gundersen, Linda C.

Henderson, John C.

Hildebrandt, Betsy J.

Iudicello, Fay S.

Jackson, J. Andrew

Jacobson, Rachel L.

Keable, Edward T.

Kimball, Suzette

Kinsinger, Anne E.

Koenigsberg, Melissa B.

Labelle, Robert P.

Lane, Kenneth L.

Laverdure, Donald E. Jr.

Malam, Pamela R.

Mazer, Bernard J.

Moss, Adrianne L.

More, Robert S.

Nedd, Michael D.

O'Dell, Margaret G.

Owens, Glenda Hudson

Payne, Grayford F.

Perez, Benito Arturo

Pletcher, Mary F.

Pool, Michael J.

Pula, Nikolao Iuli

Quint, Robert J.

Roberson, Edwin L.

Rountree, Carl D.

Russ, David P.

Russell, Lisa L.

Salotti, Christopher P.

Schmidt, Paul Rudolph

Screnar, Brian C.

Sheehan, Denise E.

Simpson, Jerry W.

Skibine, George T. C.

Smith, Michael R.

Sobeck, Eileen

Sonderman, Debra E.

Stevenson, Katherine H.

Stith, E. Melodee

Taylor, Ione L.

Taylor, Willie R.

Thomas, Pilar M.

Thorsen, Kimberley A.

Triebsch, George F.

Tsosie, Paul H.

Tubbs, John E.

Velasco, Janine M.

Wainman, Barbara W.

Wenk, Daniel N.

Whitesell, Stephen E.

Wolf, Robert W.

Woody, William C.

Rosemary Downing,
Acting Director, Office of Human Resources.

[FR Doc. 2010-27986 Filed 11-4-10; 8:45 am]

BILLING CODE 4310-RK-P